RAILROAD RETIREMENT BOARD

Proposed Collection; Comment Request

SUMMARY: In accordance with the requirement of section 3506(c)(2)(A) of the Paperwork Reduction Act of 1995 which provides opportunity for public comment on new or revised data collections, the Railroad Retirement board (RRB) will publish periodic summaries of proposed data collections.

Comments are invited on: (a) Whether the proposed information collection is necessary for the proper performance of the functions of the agency, including whether the information collection has practical utility; (b) the accuracy of the RRB's estimate of the burden of the collection of the information; (c) ways to enhance the quality, utility, and clarity of the information to be collected; and (d) ways to minimize the burden related to the collection of information on respondents, including the use of automated collection techniques of other forms of information technology.

Title and Purpose of Information Collection

Aged Monitoring Questionnaire: OMB 3220-0178.

As outlined in 20 CFR 219.3(b), once a claimant establishes entitlement to an annuity under the Railroad Retirement Act (RRA), the RRB may ask that annuitant to produce evidence needed to decide whether he or she may continue to receive an annuity or whether the annuity should be reduced or stopped.

The RRB utilizes Form G-19c, Aged Monitoring Questionnaire, to monitor select aged annuitants. Use of the form assists RRB efforts to discover unreported deaths and also to determine if an aged annuitant is able to manage their own affairs. One response is requested from each respondent.

Completion is voluntary.

The RRB proposes no changes to Form G-19c.

The estimated annual respondent burden is as follows:

Estimated number of responses: 3,000.

Estimated completion time per response: 6 minutes.

Estimated annual burden hours: 300.

Additional Information or Comments: To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 02-9583 Filed 4-18-02; 8:45 am]

BILLING CODE 7905-1-M